Proclamation 8875 of October 1, 2012

National Cybersecurity Awareness Month, 2012

By the President of the United States of America

A Proclamation

Today, Americans are more connected to each other and to people around the world than ever before. Many of us depend on the Internet and digital tools in our daily lives—from shopping at home and banking on our mobile devices to sharing information with friends across the globe. And America far outpaces the rest of the world in adoption of cutting-edge wireless broadband technology. Our growing reliance on technology reminds us that our digital infrastructure is not just a convenience; it is a strategic national asset. During National Cybersecurity Awareness Month, we recommit to ensuring our information and infrastructure remain secure, reliable, and resilient.

Though our Nation benefits immensely from the Internet, increased connectivity brings increased risk of theft, fraud, and abuse. That is why my Administration has made cybersecurity a national and economic security priority. By bringing together Federal, State, and local governments and private industry partners, we have made great progress in securing cyberspace for business, education, entertainment, and civic life. In November 2011, we released the Blueprint for a Secure Cyber Future—a strategic plan to protect government, the private sector, and the public against cyber threats today and tomorrow.

As we continue to improve our cybersecurity under existing authorities, comprehensive legislation remains essential to securing our critical infrastructure, facilitating greater cyber information sharing between government and the private sector, and protecting the privacy and civil liberties of the American people. My Administration looks forward to working with the Congress to address these goals.

Cybersecurity cannot be guaranteed by government, industry, and law enforcement alone. Each of us has an important role to play in reducing the cyber threat and increasing our resilience following cyber incidents. The Department of Homeland Security's “Stop.Think.Connect.” campaign continues to empower digital citizens with the information and tools they need to stay safe online. To learn more about how we can all contribute to the security of our shared cyber networks, visit www.DHS.gov/StopThinkConnect.

America's digital infrastructure underpins our progress toward strengthening our economy, improving our schools, modernizing our military, and making our government more open and efficient. Working together, we can embrace the opportunities and meet the challenges cyberspace provides while preserving America's fundamental belief in freedom, openness, and innovation.

NOW, THEREFORE, I, BARACK OBAMA, President of the United States of America, by virtue of the authority vested in me by the Constitution and the laws of the United States, do hereby proclaim October 2012 as National Cybersecurity Awareness Month. I call upon the people of the United States to recognize the importance of cybersecurity and to observe this month with activities, events, and trainings that will enhance our national security and resilience.

IN WITNESS WHEREOF, I have hereunto set my hand this first day of October, in the year of our Lord two thousand twelve, and of the Independence of the United States of America the two hundred and thirty-seventh.

[FR Doc. 2012-24668

Filed 10-3-12; 8:45 am]

Billing code 3295-F3